SUSQUEHANNA RIVER BASIN COMMISSION

Notice of Projects Approved for Consumptive Uses of Water

AGENCY: Susquehanna River Basin Commission.

ACTION: Notice of Approved Projects.

SUMMARY: This notice lists the projects approved by rule by the Susquehanna River Basin Commission during the period set forth in DATES.

DATES: January 1, 2010, through January 31, 2010.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. EXCO Resources (PA), Inc., Pad ID: Roba, ABR-20100101, Scott Township, Lackawanna County, Pa.; Consumptive Use of up to 2.000 mgd; Approval Date: January 8, 2010.

2. Ultra Resources, Inc., Pad ID: Ken-Ton 902, ABR-20100102, West Branch Township, Potter County, Pa.; Consumptive Use of up to 4.990 mgd; Approval Date: January 8, 2010.

3. Fortuna Energy, Inc., Pad ID: Vanblarcom R 004, ABR-20100103, Columbia Township, Bradford County, Pa.; Consumptive Use of up to 3.000 mgd; Approval Date: January 8, 2010.

4. Chief Oil & Gas, LLC, Pad ID: Lytle Unit Drilling Pad, ABR-20100104, Lawrence Township, Clearfield County, Pa.; Consumptive Use of up to 5.000 mgd; Approval Date: January 8, 2010.

5. East Resources, Inc., Pad ID: Willard 419-1H, ABR-20100105, Delmar Township, Tioga County, Pa.; Consumptive Use of up to 4.000 mgd; Approval Date: January 8, 2010.

6. East Resources, Inc., Pad ID: York 480-5H, ABR-20100106, Sullivan Township, Tioga County, Pa.; Consumptive Use of up to 4.000 mgd; Approval Date: January 8, 2010.

7. East Resources, Inc., Pad ID: Wood 513, ABR-20100107, Rutland Township, Tioga County, Pa.; Consumptive Use of up to 4.000 mgd; Approval Date: January 8, 2010.

8. Fortuna Energy, Inc., Pad ID: Hoover G 017, ABR-20100108, Canton Township, Bradford County, Pa.; Consumptive Use of up to 3.000 mgd; Approval Date: January 8, 2010.

9. Fortuna Energy, Inc., Pad ID: Foust J 1H, ABR-20100109, Granville Township, Bradford County, Pa.; Consumptive Use of up to 3.000 mgd; Approval Date: January 8, 2010.

10. Fortuna Energy, Inc., Pad ID: Lutz T1, ABR-20100110, Troy Township, Bradford County, Pa.; Consumptive Use of up to 3.000 mgd; Approval Date: January 8, 2010.

11. Fortuna Energy, Inc., Pad ID: Lutz T2, ABR-20100111, Troy Township, Bradford County, Pa.; Consumptive Use of up to 3.000 mgd; Approval Date: January 8, 2010.

12. Fortuna Energy, Inc., Pad ID: Thomas FT 1, ABR-20100112, Troy Township, Bradford County, Pa.; Consumptive Use of up to 3.000 mgd; Approval Date: January 8, 2010.

13. Fortuna Energy, Inc., Pad ID: Thomas FT 2, ABR-20100113, Troy Township, Bradford County, Pa.; Consumptive Use of up to 3.000 mgd; Approval Date: January 8, 2010.

14. East Resources, Inc., Pad ID: Butler 127, ABR-20100114, Delmar Township, Tioga County, Pa.; Consumptive Use of up to 4.000 mgd; Approval Date: January 8, 2010.

15. J-W Operating Company, Pad ID: Pardee & Curtin Lumber Co. C-04 ABR-20100115, Lumber Township, Cameron County, Pa.; Consumptive Use of up to 4.500 mgd; Approval Date: January 8, 2010.

16. J-W Operating Company, Pad ID: Pardee & Curtin Lumber Co. C-05 ABR-20100116, Shippen Township, Cameron County, Pa.; Consumptive Use of up to 4.500 mgd; Approval Date: January 8, 2010.

17. J-W Operating Company, Pad ID: Pardee & Curtin Lumber Co. C-07H, ABR-20100117, Lumber Township, Cameron County, Pa.; Consumptive Use of up to 4.500 mgd; Approval Date: January 8, 2010.

18. East Resources, Inc., Pad ID: Hackman 143, ABR-20100118, Delmar Township, Tioga County, Pa.; Consumptive Use of up to 4.000 mgd; Approval Date: January 8, 2010.

19. East Resources, Inc., Pad ID: Baker 128, ABR-20100119, Delmar Township, Tioga County, Pa.; Consumptive Use of up to 4.000 mgd; Approval Date: January 8, 2010.

20. East Resources, Inc., Pad ID: Charles Stock 144, ABR-20100120, Delmar Township, Tioga County, Pa.; Consumptive Use of up to 4.000 mgd; Approval Date: January 8, 2010.

21. East Resources, Inc., Pad ID: Kennedy 137, ABR-20100121, Delmar Township, Tioga County, Pa.; Consumptive Use of up to 4.000 mgd; Approval Date: January 8, 2010.

22. East Resources, Inc., Pad ID: Stevens 142, ABR-20100122, Delmar Township, Tioga County, Pa.; Consumptive Use of up to 4.000 mgd; Approval Date: January 8, 2010.

23. East Resources, Inc., Pad ID: Castle 113D, ABR-20100123, Canton Township, Bradford County, Pa.; Consumptive Use of up to 4.000 mgd; Approval Date: January 8, 2010.

24. East Resources, Inc., Pad ID: Miller 116D, ABR-20100124, Union Township, Tioga County, Pa.; Consumptive Use of up to 4.000 mgd; Approval Date: January 8, 2010.

25. Citrus Energy Corporation, Pad ID: Procter & Gamble Mehoopany Plant 4V, ABR-20100125, Washington Township, Wyoming County, Pa.; Consumptive Use of up to 5.000 mgd; Approval Date: January 8, 2010.

26. Citrus Energy Corporation, Pad ID: Procter & Gamble Mehoopany Plant 3V, ABR-20100126, Washington Township, Wyoming County, Pa.; Consumptive Use of up to 5.000 mgd; Approval Date: January 8, 2010.

27. Citrus Energy Corporation, Pad ID: Procter & Gamble Mehoopany Plant 5V, ABR-20100127, Washington Township, Wyoming County, Pa.; Consumptive Use of up to 5.000 mgd; Approval Date: January 8, 2010.

28. Fortuna Energy, Inc., Pad ID: Castle 01 047, ABR-20100128, Armenia Township, Bradford County, Pa.; Consumptive Use of up to 3.000 mgd; Approval Date: January 8, 2010.

29. Fortuna Energy, Inc., Pad ID: TWL Assoc 01 016, ABR-20100129, Armenia Township, Bradford County, Pa.; Consumptive Use of up to 3.000 mgd; Approval Date: January 8, 2010.

30. Chesapeake Appalachia, LLC, Pad ID: Lionetti, ABR-20100130, Tuscarora Township, Bradford County, Pa.; Consumptive Use of up to 7.500 mgd; Approval Date: January 8, 2010.

31. Chesapeake Appalachia, LLC, Pad ID: Storms, ABR-20100131, Tuscarora Township, Bradford County, Pa.; Consumptive Use of up to 7.500 mgd; Approval Date: January 9, 2010.

32. Chesapeake Appalachia, LLC, Pad ID: Welles 3, ABR-20100132, Terry Township, Bradford County, Pa.; Consumptive Use of up to 7.500 mgd; Approval Date: January 9, 2010.

33. Chesapeake Appalachia, LLC, Pad ID: Shirley, ABR-20100133, Terry Township, Bradford County, Pa.; Consumptive Use of up to 7.500 mgd; Approval Date: January 9, 2010.

34. Chesapeake Appalachia, LLC, Pad ID: Meas, ABR-20100134, Albany Township, Bradford County, Pa.; Consumptive Use of up to 7.500 mgd; Approval Date: January 9, 2010.

35. Chief Oil & Gas, LLC, Pad ID: Walters Unit #1H, ABR-20100135, West Burlington Township, Bradford County, Pa.; Consumptive Use of up to 5.000 mgd; Approval Date: January 9, 2010.

36. Chief Oil & Gas, LLC, Pad ID: Elliott Drilling Pad #1H, ABR-20100136, Monroe Township, Bradford County, Pa.; Consumptive Use of up to 5.000 mgd; Approval Date: January 9, 2010.

37. Cabot Oil & Gas Corporation, Pad ID: ChudleighW P2, ABR-20100137, Dimock Township, Susquehanna County, Pa.; Consumptive Use of up to 3.575 mgd; Approval Date: January 9, 2010.

38. Cabot Oil & Gas Corporation, Pad ID: LaRueC P3, ABR-20100138, Dimock Township, Susquehanna County, Pa.; Consumptive Use of up to 3.575 mgd; Approval Date: January 9, 2010.

39. East Resources, Inc., Pad ID: Coolidge 464, ABR-20100139, Delmar Township, Tioga County, Pa.; Consumptive Use of up to 4.000 mgd; Approval Date: January 9, 2010.

40. East Resources, Inc., Pad ID: Sterling 525, ABR-20100140, Rutland Township, Tioga County, Pa.; Consumptive Use of up to 4.000 mgd; Approval Date: January 9, 2010.

41. Chesapeake Appalachia, LLC, Pad ID: Mowry2, ABR-20100141, Tuscarora Township, Bradford County, Pa.; Consumptive Use of up to 7.500 mgd; Approval Date: January 10, 2010.

42. Chesapeake Appalachia, LLC, Pad ID: Harper, ABR-20100142, Terry Township, Bradford County, Pa.; Consumptive Use of up to 7.500 mgd; Approval Date: January 10, 2010.

43. East Resources, Inc., Pad ID: McClure 527, ABR-20100143, Rutland Township, Tioga County, Pa.; Consumptive Use of up to 4.000 mgd; Approval Date: January 10, 2010.

44. Chesapeake Appalachia, LLC, Pad ID: Welles 4, ABR-20100144, Terry Township, Bradford County, Pa.; Consumptive Use of up to 7.500 mgd; Approval Date: January 10, 2010.

45. Cabot Oil & Gas Corporation, Pad ID: CarlsonW P1, ABR-20100145, Dimock Township, Susquehanna County, Pa.; Consumptive Use of up to 3.575 mgd; Approval Date: January 10, 2010.

46. Chief Oil & Gas, LLC, Pad ID: Patterson Drilling Pad #1, ABR-20100146, Penn Township, Lycoming County, Pa.; Consumptive Use of up to 5.000 mgd; Approval Date: January 10, 2010.

47. Chesapeake Appalachia, LLC, Pad ID: Popivchak, ABR-20100147, Burlington Township, Bradford County, Pa.; Consumptive Use of up to 7.500 mgd; Approval Date: January 11, 2010.

48. Chesapeake Appalachia, LLC, Pad ID: Solowiej, ABR-20100148, Wyalusing Township, Bradford County, Pa.; Consumptive Use of up to 7.500 mgd; Approval Date: January 11, 2010.

49. Cabot Oil & Gas Corporation, Pad ID: Baker P1, ABR-20100149, Dimock Township, Susquehanna County, Pa.; Consumptive Use of up to 3.575 mgd; Approval Date: January 11, 2010.

50. Chesapeake Appalachia, LLC, Pad ID: Horst, ABR-20100150, Smithfield Township, Bradford County, Pa.; Consumptive Use of up to 7.500 mgd; Approval Date: January 11, 2010.

51. Chesapeake Appalachia, LLC, Pad ID: Stevens, ABR-20100151, Standing Stone Township, Bradford County, Pa.; Consumptive Use of up to 7.500 mgd; Approval Date: January 11, 2010.

52. Ultra Resources, Inc., Pad ID: Mitchell A 903, ABR-20100152, West Branch Township, Potter County, Pa.; Consumptive Use of up to 4.990 mgd; Approval Date: January 13, 2010.

53. XTO Energy Incorporated, Pad ID: Marquardt, ABR-20090712.1, Penn Township, Lycoming County, Pa.; Consumptive Use totaling up to 3.000 mgd; Approval Date: January 14, 2010.

54. Range Resources—Appalachia, LLC, Pad ID: Genter 3, ABR-20100153, Cummings Township, Lycoming County, Pa.; Consumptive Use of up to 5.000 mgd; Approval Date: January 20, 2010.

55. Range Resources—Appalachia, LLC, Pad ID: Laurel Hill 1, ABR-20100154, Jackson Township, Lycoming County, Pa.; Consumptive Use of up to 5.000 mgd; Approval Date: January 20, 2010.

56. Novus Operating, LLC, Pad ID: Sylvester 1H, ABR-20100155, Brookfield Township, Tioga County, Pa.; Consumptive Use of up to 1.000 mgd; Approval Date: January 21, 2010.

57. EOG Resources, Inc., Pad ID: PHC 20V, ABR-20100156, Lawrence Township, Clearfield County, Pa.; Consumptive Use of up to 0.999 mgd; Approval Date: January 21, 2010.

58. EOG Resources, Inc., Pad ID: LIDDELL 1H, ABR-20100157, Springfield Township, Bradford County, Pa.; Consumptive Use of up to 1.999 mgd; Approval Date: January 21, 2010.

59. Novus Operating, LLC, Pad ID: NorthFork 1H, ABR-20100158, Brookfield Township, Tioga County, Pa.; Consumptive Use of up to 1.000 mgd; Approval Date: January 28, 2010.

Authority: Pub. L. 91-575, 84 Stat. 1509 et seq., 18 CFR parts 806, 807, and 808.

Dated: April 16, 2010.
Stephanie L. Richardson,
Secretary to the Commission.

[FR Doc. 2010-9654 Filed 4-26-10; 8:45 am]

BILLING CODE 7040-01-P